DEPARTMENT OF COMMERCE

Foreign-Trade Zones Board

[Docket 44-2011]

Foreign-Trade Zone 124—Gramercy, LA; Application for Reorganization Under Alternative Site Framework

An application has been submitted to the Foreign-Trade Zones (FTZ) Board (the Board) by the Port of South Louisiana, grantee of FTZ 124, requesting authority to reorganize the zone under the alternative site framework (ASF) adopted by the Board (74 FR 1170-1173, 01/12/09 (correction 74 FR 3987, 01/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on June 24, 2011.

FTZ 124 was approved by the Board on December 20, 1985 (Board Order 319, 50 FR 53351, 12/31/85), and expanded on July 5, 1988 (Board Order 387, 53 FR 27184, 7/19/88). The current zone project includes the following sites: Site 1 (600 acres)—located at River Mile 121.4, Luling; Site 2 (335 acres)—within the Globalplex Intermodal Terminal, River Mile 138.5, Reserve; Site 3 (200 acres)—within Place Riviere, River Mile 150, Vacherie; and, Site 4 (213 acres)—within the Plantation Business Campus, River Mile 121, Destrehan.

The grantee's proposed service area under the ASF would be St. Charles, St. John the Baptist, St. James, La Fourche and St. Mary Parishes, Louisiana. If approved, the grantee would be able to serve sites throughout the service area based on companies' needs for FTZ designation. The proposed service area is within and adjacent to the Gramercy Customs and Border Protection port of entry.

The applicant is requesting authority to reorganize its existing zone project to include existing Sites 2, 3 and 4 as “magnet” sites. The ASF allows for the possible exemption of one magnet site from the “sunset” time limits that generally apply to sites under the ASF, and the applicant proposes that Site 2 be so exempted. The applicant is also requesting that Site 1 be removed from the zone project. Because the ASF only pertains to establishing or reorganizing a general-purpose zone, the application would have no impact on FTZ 124's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is August 29, 2011. Rebuttal comments in response to material submitted during the foregoing period may be submitted during the subsequent 15-day period to September 13, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Camille Evans at Camille.Evans@trade.gov or (202) 482-2350.

Dated: June 24, 2011.
Andrew McGilvray,
Executive Secretary.

[FR Doc. 2011-16486 Filed 6-29-11; 8:45 am]

BILLING CODE P